DEPARTMENT OF AGRICULTURE

Food Safety and Inspection Service

9 CFR Part 381

[Docket No. FSIS-2023-0028]

RIN 0583-AD96

Salmonella Framework for Raw Poultry Products

AGENCY: Food Safety and Inspection Service (FSIS), U.S. Department of Agriculture (USDA).

ACTION: Notice of withdrawal.

SUMMARY: FSIS is withdrawing the proposed rule and proposed determination titled “Salmonella Framework for Raw Poultry Products.”

DATES: The proposed rule and proposed determination published on August 7, 2024, at 89 FR 64678 is withdrawn as of April 25, 2025.

FOR FURTHER INFORMATION CONTACT: Rachel Edelstein, Assistant Administrator, Office of Policy and Program Development, FSIS, USDA; Telephone: (202) 205-0495.

SUPPLEMENTARY INFORMATION: On August 7, 2024, FSIS published a proposed rule and proposed determination in the Federal Register titled “Salmonella Framework for Raw Poultry Products” (89 FR 64678). The proposed framework was targeted at reducing Salmonella illnesses associated with poultry products. The proposal announced FSIS' proposed determination that raw chicken carcasses, chicken parts, comminuted chicken, and comminuted turkey products contaminated with certain Salmonella levels and serotypes are adulterated as defined in the Poultry Products Inspection Act (PPIA) (21 U.S.C. 453 et seq.). FSIS proposed to establish final product standards based on these Salmonella levels and serotypes. FSIS also proposed to revise the regulations in 9 CFR 381.65(g) that require that all poultry slaughter establishments develop, implement, and maintain written procedures to prevent contamination by enteric pathogens throughout the entire slaughter and dressing operation to clarify that these procedures must include a microbial monitoring program (MMP) that incorporates statistical process control (SPC) monitoring methods, to require sampling at rehang instead of pre-chill, and to require that all establishments conduct paired sampling at rehang and post-chill. The Agency proposed to amend the recordkeeping requirements under 9 CFR 381.65(h) to require that establishments submit their microbial monitoring sampling results to FSIS electronically. FSIS had considered proposing to require that incoming flocks meet a predetermined target level for Salmonella at receiving. However, at the time the proposal was published, the research did not support the use of a threshold for test results at the receiving step and many small poultry producers and processors said that such an approach would impose an overwhelming burden on them. Therefore, the proposed framework focused on a non-regulatory approach for reducing the Salmonella load on incoming birds.

FSIS received 7,089 comments on the proposed framework during the comment period, which closed on January 17, 2025. Most of the comments were submitted as part of organized letter writing campaigns, while 1,415 were unique comment letters. FSIS received substantive comments from a variety of stakeholders that included poultry and meat industry trade associations, small poultry producer and processor trade associations, large and small poultry processing establishments, consumer advocacy organizations, members of academia, scientific and technical trade associations, diagnostic laboratory companies, foreign entities (government, poultry processors, and importers), law students, State Departments of Agriculture and State representatives, members of Congress, and a risk assessment firm. The issues that generated the most comments, both positive and negative, included those associated with FSIS' legal authority to propose the final product standards, the proposed Salmonella levels and serotypes for the final product standards, the proposed use of SPC monitoring, the scientific and technical information used to support the proposed framework, the potential economic impacts of the proposed framework, and the potential impact of the proposed framework on small poultry growers and processors. Several comments also suggested alternative approaches other than the proposed framework for addressing Salmonella illnesses associated with poultry products.

While FSIS continues to support the goal of reducing Salmonella illnesses associated with poultry products, the Agency believes that the comments have raised several important issues that warrant further consideration. Therefore, FSIS is withdrawing the “Salmonella Framework for Raw Poultry Products” proposed rule and proposed determination to allow the Agency to further assess its approach for addressing Salmonella illnesses associated with poultry products.

Additional Public Notification

Public awareness of all segments of rulemaking and policy development is important. Consequently, FSIS will announce this Federal Register publication on-line through the FSIS web page located at: https://www.fsis.usda.gov/federal-register. FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service that provides automatic and customized access to selected food safety news and information. This service is available at: https://www.fsis.usda.gov/subscribe. The available information ranges from recalls to export information, regulations, directives, and notices. Customers can add or delete subscriptions themselves and have the option to password protect their accounts.

USDA Non-Discrimination Statement

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident. Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English. To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Washington, DC 20250-9410; (2) fax: (202) 690-7442; or (3) email: program.intake@usda.gov. USDA is an equal opportunity provider, employer, and lender.

Denise Eblen,
Acting Deputy Under Secretary for the Office of Food Safety.

[FR Doc. 2025-07187 Filed 4-24-25; 8:45 am]

BILLING CODE 3410-DM-P